COMMISSION OF FINE ARTS

45 CFR Part 2102

Procedures and Policies Amendment

AGENCY: The Commission of Fine Arts.

ACTION: Final rule.

SUMMARY: This document amends the procedures and policies governing the administration of the U.S. Commission of Fine Arts. This document serves to establish a Consent Calendar and to clarify the functions and requirements of a Consent Calendar and Appendices for the review of projects submitted to the Commission in order to address more efficiently the needs of the Federal government and the public.

DATES: Effective September 1, 2005.

FOR FURTHER INFORMATION CONTACT: Thomas Luebke, Secretary, (202) 504-2200.

SUPPLEMENTARY INFORMATION: As established by Congress in 1910, the Commission of Fine Arts is a small independent advisory body made up of seven Presidentially appointed “well qualified judges of the arts” whose primary role is architectural review of designs for buildings, parks, monuments and memorials erected by the Federal or District of Columbia governments in Washington, DC. In addition to architectural review, the Commission considers and advises on the designs for coins, medals and U.S. memorials on foreign soil. The Commission also advises the District of Columbia government on private building projects within the Georgetown Historic District, the Rock Creek Park perimeter and the Monumental Core area. The Commission advises Congress, the President, Federal agencies, and the District of Columbia government on the general subjects of design, historic preservation and on orderly planning on matters within its jurisdiction.

The regulations amended with this rule were last published in the Federal Register on January 31, 1997 (45 CFR Parts 2101, 2102, 2103). Specific items this document amends include providing the current address and telephone number of the agency, and clarifying a series of procedural functions. Therefore, as these changes clarify established and new procedures, and are minor in nature, the Commission determines that notice and comment are unnecessary and that, in accordance with 5 U.S.C. 553(b)(B), good cause to waive notice and comment is established.

List of Subjects in 45 CFR Part 2102

Administrative practice and procedure, Sunshine Act.

This document was prepared under the direction of Thomas Luebke, Secretary. U.S. Commission of Fine Arts, 401 F Street, NW., Suite 312, Washington, DC 20001.

Accordingly, for the reasons set forth above, Part 2102 is amended as set forth below.

For the reasons stated in the preamble, the Commission of Fine Arts hereby amends 45 CFR 2102, Subpart B—Procedures on Submission of Plans or Designs, with the addition of the following sections to read:

PART 2102—MEETINGS AND PROCEDURES OF THE COMMISSION

1. The authority citation for part 2102 is revised to read as follows:

Authority: 5 U.S.C., App. 1.

2. Add § 2102.13 to Part 2102, Subpart B—Procedures on Submission of Plans or Designs, to read as follows:

§ 2102.13 Project eligibility criteria for placement on a Consent Calendar.

With respect to submissions to the Commission for projects that meet the following criteria, the Secretary, at his/her discretion and in coordination with the Commission's staff, may place these projects on a Consent Calendar according to § 2102.14.

(a) Additions to buildings of less than 25 percent (%) of the original structure and no more than 25,000 sq. ft.;

(b) New construction of less than 25,000 sq. ft.;

(c) Window replacement projects;

(d) Cellular or other communications antenna installations or replacements;

(e) New or replacement signs;

(f) Cleaning, routine maintenance, repairs or replacement-in-kind of exterior finish materials;

(g) Temporary utility or construction structures;

(h) And does not include new physical perimeter security items.

3. Add § 2102.14 to Part 2102, Subpart B—Procedures on Submission of Plans or Designs, to read as follows:

§ 2102.14 Consent Calendar and Appendices procedures.

(a) The Commission shall review applications scheduled on its Meeting Agenda, Consent Calendar, or Appendices (Old Georgetown Act and Shipstead-Luce Act). Cases on the Meeting Agenda will be heard by the Commission in open session. Cases on the Consent Calendar or Appendices will be acted upon based on submitted materials and staff recommendations without further public comment.

(b) The Commission shall release the proposed Meeting Agenda, and the Consent Calendar and Appendices with staff recommendation to the public not later than five (5) calendar days before the meeting.

(c) The scheduling of cases on the Meeting Agenda, Consent Calendar, and Appendices shall be at the sole discretion of the Commission and staff, and nothing shall preclude the Commission from amending or changing the scheduling at a public meeting.

(d) The staff shall prepare a written recommendation for each case on the Consent Calendar or Appendices the Commission will review.

(e) The Commission shall conduct public review of cases in accordance with a proposed Agenda released to the public before the Commission meeting. The Commission shall dispose of other cases by adoption of a Consent Calendar and Appendices, as appropriate. The Commission may amend the Meeting Agenda, Consent Calendar and Appendices at the public meeting as it may deem appropriate.

(f) An application may be placed on the Consent Calendar if the applicant and staff agree that the proposed work has no known objection by an affected government agency, neighborhood organization, historic preservation organization, or affected person. Any relevant terms or modifications agreed upon by the applicant and staff may be included as conditions of the approval.

(g) At the request of any Commission member, the Chairperson may remove any case from the Consent Calendar and place it on the Meeting Agenda for individual consideration by the Commission at the meeting. A request from any other group or person to remove a case from the Consent Calendar should be made to the staff in advance of the meeting and shall be considered as a preliminary matter at the meeting.

(h) The Chairperson may also remove any case from a duly noticed Meeting Agenda and place it on the Consent Calendar, provided there is no objection from the applicant, any Commission member, or any affected group or person present and wishing to comment on the case.

(i) The Commission may approve the Consent Calendar and Appendices on a voice vote.

Dated: August 18, 2005.
Thomas Luebke,
Secretary, U.S. Commission of Fine Arts.

[FR Doc. 05-16712 Filed 8-22-05; 8:45 am]

BILLING CODE 6330-01-P